DEPARTMENT OF THE INTERIOR

National Park Service

[NPS-WASO-NAGPRA-17145; PPWOCRADN0-PCU00RP14.R50000]

Notice of Intent To Repatriate Cultural Items: Honolulu Museum of Art, Honolulu, HI

AGENCY: National Park Service, Interior.

ACTION: Notice.

SUMMARY: The Honolulu Museum of Art, in consultation with the appropriate Indian tribes or Native Hawaiian organizations, has determined that the cultural item listed in this notice meets the definition of an object of cultural patrimony. Lineal descendants or representatives of any Indian tribe or Native Hawaiian organization not identified in this notice that wish to claim this cultural item should submit a written request to the Honolulu Museum of Art. If no additional claimants come forward, transfer of control of the cultural item to the lineal descendants or Indian tribes, or Native Hawaiian organizations stated in this notice may proceed.

DATES: Lineal descendants or representatives of any Indian tribe or Native Hawaiian organization not identified in this notice that wish to claim this cultural item should submit a written request with information in support of the claim to the Honolulu Museum of Art at the address in this notice by January 21, 2015.

ADDRESSES: Stephan Jost, Director, Honolulu Museum of Art, 900 South Beretania St., Honolulu, HI 96814, telephone (808) 532-8717, email sjost@honolulumuseum.

SUPPLEMENTARY INFORMATION: Notice is here given in accordance with the Native American Graves Protection and Repatriation Act (NAGPRA), 25 U.S.C. 3005, of the intent to repatriate a cultural item under the control of the Honolulu Museum of Art that meets the definition of an object of cultural patrimony under 25 U.S.C. 3001.

This notice is published as part of the National Park Service's administrative responsibilities under NAGPRA, 25 U.S.C. 3003(d)(3). The determinations in this notice are the sole responsibility of the museum that has control of the Native American cultural item. The National Park Service is not responsible for the determinations in this notice.

History and Description of the Cultural Item

In the early 1920s, a totem pole was removed by John Barrymore from Tuxican in Alaska, on the west coast of Prince of Wales Island. In 1981, it was given to Honolulu Museum of Art by Vincent and Mary Grant Price, who had obtained it from the estate of Barrymore. The one object of cultural patrimony is a Henya Tlingit totem pole, circa 1900, redwood with traces of polychrome, height 24¾ ft.

In a letter dated January 21, 2013, Don Nickerson, Jr. wrote to Stephan Jost of Honolulu Museum of Art requesting to consult on the object. As President of the Klawock Cooperative Association, the federally recognized IRA tribe of the Henya Tlingit people of Klawock, AK, Mr. Nickerson stated that one of their traditional villages was Tuxican, AK, on the west coast of Prince of Wales Island. He further stated that this village was the location of numerous totem poles erected by their ancestors, most of which were mortuary poles dedicated to the memory of the deceased. Mr. Nickerson explained that according to information that they obtained, the pole was taken from the village site by the party of the actor John Barrymore who was traveling through the area by yacht. He explained that the village was not occupied at that time because residents had relocated to Klawock. In February 2013, the Klawock Cooperative Association sent their representative, the anthropologist Dr. Steve J. Langdon, to visit Honolulu Museum of Art to examine and photograph the totem pole.

Dr. Langdon published a report dated March 1, 2013, titled, Tuxican Photo Commentary Related to Tlingit Pole Located as the Honolulu Museum of Art. In it he stated that “Tlingit carver Jon Rowan, a descendant of Tuxican village residents now residing in Klawock, Alaska and myself consider the pole to be representative of Wuckitan clan crests of the Raven moiety. It was likely raised to commemorate the death of a wife of a high-ranking Tuxican chief of the Wolf moiety in the latter half of the 19th century.” In a series of archival photographs Dr. Langdon identified the pole in the oldest known image of the entire village of Tuxican around the 1880s. He identified the totem pole in association with the surrounding houses and other totem poles and gives approximate dates, thereby establishing the precise identity of the totem pole and substantiating the claim of the Klawock Cooperative Association.

Determinations Made by the Honolulu Museum of Art

Officials of the Honolulu Museum of Art have determined that:

• Pursuant to 25 U.S.C. 3001(3)(D), the one totem pole described above has ongoing historical, traditional, or cultural importance central to the Native American group or culture itself, rather than property owned by an individual.

• Pursuant to 25 U.S.C. 3001(2), there is a relationship of shared group identity that can be reasonably traced between the object of cultural patrimony and Klawock Cooperative Association.

Additional Requestors and Disposition

Lineal descendants or representatives of any Indian tribe or Native Hawaiian organization not identified in this notice that wish to claim these cultural items should submit a written request with information in support of the claim to Stephan Jost, Director, Honolulu Museum of Art, 900 South Beretania St., Honolulu, HI 96814, telephone (808) 532-8717, email sjost@honolulumuseum, by January 21, 2015. After that date, if no additional claimants have come forward, transfer of control of the object of cultural patrimony to Klawock Cooperative Association may proceed.

The Honolulu Museum of Art is responsible for notifying the Klawock Cooperative Association that this notice has been published.

Dated: November 7, 2014.
Melanie O'Brien,
Acting Manager, National NAGPRA Program.

[FR Doc. 2014-29902 Filed 12-19-14; 8:45 am]

BILLING CODE 4312-50-P